NUCLEAR REGULATORY COMMISSION

[Docket No. 030-11789]

Notice of Environmental Assessment Related to the Issuance of a License Amendment to Byproduct Material License No. 24-00196-07, for Unrestricted Release of a Facility for Saint Louis University, St. Louis, MO

AGENCY: Nuclear Regulatory Commission.

ACTION: Issuance of Environmental Assessment and Finding of No Significant Impact for License Amendment.

FOR FURTHER INFORMATION CONTACT: George M. McCann, Senior Health Physicist, Decommissioning Branch, Division of Nuclear Materials Safety, Region III, U.S. Nuclear Regulatory Commission, 2443 Warrenville Road, Lisle, Illinois 60532; telephone: (630) 829-9856; fax number: (630) 515-1259; or by e-mail at Mike.McCann@nrc.gov.

SUPPLEMENTARY INFORMATION:

I. Introduction

The U.S. Nuclear Regulatory Commission (NRC) is considering the issuance of an amendment to terminate NRC Byproduct Materials License No. 24-00196-07, which is held by Saint Louis University (licensee). The issuance of the amendment would authorize the unrestricted release of the licensee's Institute for Molecular Virology (the facility), which consists of a 25,000 square foot building located on the licensee's campus at 3681 Park Avenue, St. Louis, Missouri.

The NRC has prepared an Environmental Assessment (EA) in support of this proposed action in accordance with the requirements of Title 10, Code of Federal Regulations (CFR), Part 51 (10 CFR Part 51). Based on the EA, the NRC has concluded that a Finding of No Significant Impact (FONSI) is appropriate with respect to the proposed action. The amendment will be issued to the Licensee following the publication of this FONSI and EA in the Federal Register.

II. Environmental Assessment

Identification of Proposed Action

The proposed action would approve the licensee's request to release the facility for unrestricted use in accordance with 10 CFR Part 20, Subpart E. The Licensee requested this action in a letter dated July 9, 2008 (ADAMS Accession Number ML081930612). The license was issued on January 16, 1976, pursuant to 10 CFR Part 30, and has been amended periodically since that time. This license authorized the Licensee to use unsealed byproduct materials for conducting research and development activities involving medical research, diagnostic and therapy medical procedures, laboratory studies and educational programs in the areas of molecular virology, viral oncology, and cancer biology.

The licensee performed a Historical Site Assessment (HSA) in May and June of 2008. The purpose of the HSA was to determine the current status of the facility including potential, likely, or known sources of radioactive contamination by gathering data from various sources. This data included physical characteristics and location of the site as well as information gathered from personnel interviews and inspection of site operating records, and from radiological surveys. Records reviewed included: radioactive materials licenses, license applications, amendment requests, meeting minutes, radiological surveys, radionuclide receipt and distribution records, incident reports, facility renovation records, blueprints, plans and design specifications. Personnel interviews included radiation safety, research, maintenance, operations, and facilities personnel. Current employees having knowledge of facility historical operations were interviewed.

The licensee did not dispose of radioactive waste via on-site burial. All waste containing long lived radioisotopes was shipped offsite to a licensed landfill, approved to receive and dispose of radioactive materials. No waste-related environmental concerns were identified during the record search or interviews of the radiation safety staff. There were no recorded spills or loss of control that required additional investigation.

Decontamination of the facility was completed on June 20, 2008. The licensee's “SLU IMV Final Status Report, Rev 4.pdf Institute for Molecular Virology Decommissioning Final Status Report,” dated June 24, 2008 (ML081930612), was submitted to the NRC on July 9, 2008.

Based on the Licensee's survey results it was determined that only routine decontamination activities, in accordance with the licensee's NRC-approved, operating radiation safety procedures, were required. The Licensee was not required to submit a decommissioning plan to the NRC because worker cleanup activities and procedures are consistent with those approved for routine operations. The Licensee conducted surveys of the facility and provided information to the NRC to demonstrate that it meets the criteria in Subpart E of 10 CFR Part 20 for unrestricted release.

Need for the Proposed Action

The licensee has ceased conducting licensed activities at its facility and seeks the termination of its NRC license.

Environmental Impacts of the Proposed Action

The historical review of licensed activities conducted at the Facility shows that such activities involved use of the following radionuclides with half-lives greater than 120 days: Hydrogen-3 and carbon-14. Prior to performing the final status survey, the Licensee conducted radiation surveys and decontamination activities, as necessary, in the areas of the Facility affected by these radionuclides.

The Licensee conducted a final status survey between June 17 and June 20, 2008, in the facility. The licensee's surveys included the liquid drain, ventilation exhaust and vacuum systems. No areas were considered to have a potential for delivering a dose to the public above the release criteria.

The Licensee elected to demonstrate compliance with the radiological criteria for unrestricted release as specified in 10 CFR 20.1402 by using the screening approach described in NUREG-1757, “Consolidated NMSS Decommissioning Guidance,” Volume 2. The Licensee used the radionuclide-specific derived concentration guideline levels (DCGLs), developed there by the NRC, which comply with the dose criterion in 10 CFR 20.1402. These DCGLs define the maximum amount of residual radioactivity on building surfaces, equipment, and materials, and in soils, that will satisfy the NRC requirements in Subpart E of 10 CFR Part 20 for unrestricted release. The Licensee's final status survey results were below these DCGLs and are in compliance with the As Low As Reasonably Achievable (ALARA) requirement of 10 CFR 20.1402. The NRC thus finds that the Licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” (NUREG-1496) Volumes 1-3 (ML042310492, ML042320379, and ML042330385). The staff finds there were no significant environmental impacts from the use of radioactive material at the Facility. The NRC staff reviewed the docket file records and the final status survey report to identify any non-radiological hazards that may have impacted the environment surrounding the Facility. No such hazards or impacts to the environment were identified. The NRC has identified no other radiological or non-radiological activities in the area that could result in cumulative environmental impacts.

The NRC staff finds that the proposed release of the Facility for unrestricted use is in compliance with 10 CFR 20.1402. Based on its review, the staff considered the impact of the residual radioactivity at the Facility and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment request. This no-action alternative is not feasible because it conflicts with 10 CFR 30.36(d) requiring that decommissioning of byproduct material facilities be completed and approved by the NRC after licensed activities cease. The NRC's analysis of the Licensee's final status survey data confirmed that the Facility meets the requirements of 10 CFR 20.1402 for unrestricted release. Additionally, denying the amendment request would result in no change in current environmental impacts. The environmental impacts of the proposed action and the no-action alternative are therefore similar, and the no-action alternative is accordingly not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

The NRC provided a draft of this Environmental Assessment to the Missouri Department of Health and Senior Services Waste, Division of Community and Public Health, Office of Emergency Coordination on September 3, 2008. On September 4, 2008, the State responded by telephone to the NRC indicating that the State did not have any comments or concerns regarding the release of the licensee's facility.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and supporting documentation, are available electronically at the NRC's Electronic Reading Room at http://www.nrc.gov/reading-rm/adams.html. From this site, you can access the NRC's Agencywide Document Access and Management System (ADAMS), which provides text and image files of NRC's public documents. The documents related to this action are listed below, along with their ADAMS accession numbers.

1. Mark Haenschen, M.S., J.D., letter to U.S. Nuclear Regulatory Commission, Region III, dated July 9, 2008 (ADAMS Accession No. ML081930612).

2. Title 10 Code of Federal Regulations, Part 20, Subpart E, “Radiological Criteria for License Termination;”

3. Title 10 Code of Federal Regulations, Part 51, “Environmental Protection Regulations for Domestic Licensing and Related Regulatory Functions;”

4. NUREG-1496, “Generic Environmental Impact Statement in Support of Rulemaking on Radiological Criteria for License Termination of NRC-Licensed Nuclear Facilities;” NUREG-1757, Consolidated Decommissioning Guidance.

If you do not have access to ADAMS, or if there are problems in accessing the documents located in ADAMS, contact the NRC Public Document Room (PDR) Reference staff at 1-800-397-4209, 301-415-4737, or by e-mail to pdr.resource@nrc.gov. These documents may also be viewed electronically on the public computers located at the NRC's PDR, O 1 F21, One White Flint North, 11555 Rockville Pike, Rockville, MD 20852. The PDR reproduction contractor will copy documents for a fee.

Dated at Lisle, Illinois, this 16th day of September 2008.
For the Nuclear Regulatory Commission.
Christine A. Lipa,
Chief, Decommissioning Branch, Division of Nuclear Materials Safety, Region III.

[FR Doc. E8-22687 Filed 9-25-08; 8:45 am]

BILLING CODE 7590-01-P